DEPARTMENT OF HOUSING AND URBAN DEVELOPMENT

[Docket No. FR-7077-N-23]

Privacy Act of 1974; System of Records

AGENCY: Office of Community Planning and Development, HUD.

ACTION: Notice of a rescindment of a system of records.

SUMMARY: The Department of the Housing and Urban Development (HUD) is issuing a public notice of its intent to rescind Integrated Disbursement Information System (IDIS). During a routine review of the Office of Community Planning and Development (CPD) system of records notices, it was determined that this system does not retrieve information by name or another unique identifier.

DATES: Comments will be accepted on or before February 7, 2024. This proposed action will be effective immediately upon publication.

ADDRESSES: You may submit comments, identified by one of the following methods:

Federal e-Rulemaking Portal: https://www.regulations.gov. Follow the instructions provided on that site to submit comments electronically.

Fax: 202-619-8365.

Email: privacy@hud.gov.

Mail: Attention: Privacy Office; LaDonne White, Chief Privacy Officer; The Executive Secretariat; 451 Seventh Street SW, Room 10139, Washington, DC 20410-0001.

Instructions: All submissions received must include the agency name and docket number for this rulemaking. All comments received will be posted without change to http://www.regulations.gov including any personal information provided.

Docket: For access to the docket to read background documents or comments received go to https://www.regulations.gov.

FOR FURTHER INFORMATION CONTACT: LaDonne White, Chief Privacy Officer, 451 Seventh Street SW, Room 10139, Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Integrated Disbursement Information System does not require a SORN given that information collected on U.S. residents is not retrieved by name or another unique identifier, but by grantee organization name.”

SYSTEM NAME AND NUMBER:

HUD/H-8: Integrated Disbursement & Information System (IDIS).

HISTORY:

The previously published notice in the Federal Register [Docket Number FR-5478-N-02], on April 11, 2011, at 76 FR 20003.

Ladonne L. White,
Chief Privacy Officer, Office of Administration.

[FR Doc. 2024-00117 Filed 1-5-24; 8:45 am]

BILLING CODE 4210-67-P